DEPARTMENT OF STATE

22 CFR Part 171

[Public Notice: 11928]

RIN 1400-AF57

Privacy Act of 1974; STATE-60, Special Presidential Envoy for Hostage Affairs and Related Records

AGENCY: Department of State.

ACTION: Proposed rule.

SUMMARY: The Department of State is giving concurrent notice of a publication for a system of records pursuant to the Privacy Act of 1974 for the Special Presidential Envoy for Hostage Affairs and Related Records, STATE-60; and this proposed rulemaking, which exempts portions of this system of records from one or more provisions of the Privacy Act of 1974.

DATES: Comments on this proposed rule are due by May 30, 2023.

ADDRESSES: Interested parties may submit comments to the Department by any of the following methods:

• Visit the Regulations.gov website at: http://www.regulations.gov and search for the docket number DOS-2023-0007.

• Email: Privacy@state.gov. You must include RIN 1400-AF57 in the subject line of your message.

• All comments should include the commenter's name, the organization the commenter represents, if applicable, and the commenter's address. If the Department is unable to read your comment for any reason, and cannot contact you for clarification, the Department may not be able to consider your comment. After the conclusion of the comment period, the Department will publish a Final Rule (in which it will address relevant comments) as expeditiously as possible.

FOR FURTHER INFORMATION CONTACT: Eric F. Stein, Senior Agency Official for Privacy; U.S. Department of State; Office of Global Information Services, A/GIS; Room 1417, 2201 C St. NW, Washington, DC 20520 or by calling (202) 485-2051.

SUPPLEMENTARY INFORMATION: The Department of State maintains the Special Presidential Envoy for Hostage Affairs and Related Records system of records. The primary purpose of this system of records is to support diplomatic and consular efforts to secure the recovery of and provide assistance and support services to individuals taken hostage or wrongfully detained abroad.

The Department of State is issuing this document as a notice to amend 22 CFR part 171 to exempt portions of the Special Presidential Envoy for Hostage Affairs and Related Records system of records from paragraphs (c)(3); (d); (e)(1); (e)(4)(G), (H), and (I); and (f) of the Privacy Act pursuant to 5 U.S.C. 552a (k)(1) and (k)(2). STATE-60 is exempted under paragraph (k)(1) to the extent that records within that system are subject to the provisions of 5 U.S.C. 552(b)(1). STATE-60 is exempted under paragraph (k)(2) to the extent that records within that system are comprised of investigatory material compiled for law enforcement purposes, subject to the limitations set forth in that section.

List of Subjects in 22 CFR Part 171

Privacy.

For the reasons stated in the preamble, 22 CFR part 171 is proposed to be amended as follows:

PART 171—PUBLIC ACCESS TO INFORMATION

1. The authority citation for part 171 continues to read as follows:

Authority: 22 U.S.C. 2651a; 5 U.S.C. 552, 552a; E.O. 12600 (52 FR 23781); Pub. L. 95-521, 92 Stat. 1824 (codified as amended at 5 U.S.C. app. 101-505); 5 CFR part 2634.

2. Amend § 171.26 by:

a. In paragraph (b)(1) adding an entry, in alphabetical order, for “Special Presidential Envoy for Hostage Affairs and Related Records, State-60.”; and

b. In paragraph (b)(2) adding an entry, in alphabetical order, for “Special Presidential Envoy for Hostage Affairs and Related Records, State-60.”

The additions read as follows:

§ 171.26 Exemptions.

* * * * *

(b) * * *

(1) * * *

Special Presidential Envoy for Hostage Affairs and Related Records, State-60.

* * * * *

(2) * * *

Special Presidential Envoy for Hostage Affairs and Related Records, State-60.

* * * * *

Eric F. Stein,
Deputy Assistant Secretary, Global Information Services (A/GIS), Department of State.

[FR Doc. 2023-07969 Filed 4-14-23; 8:45 am]

BILLING CODE 4710-AD-P